DEPARTMENT OF AGRICULTURE

Submission for OMB Review; Comment Request

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Foot-and-Mouth Disease Payment of Indemnity; Update of Provisions.

OMB Control Number: 0579-0199

Summary of Collection: The Animal and Plant Health Inspection Service (APHIS) of the United States Department of Agriculture administers regulations at 9 CFR part 53 that provides for the payment of indemnity to owners of animals that are required to be destroyed because of food-and-mouth disease (FMD), and any other communicable disease of livestock or poultry that in the opinion of the Secretary of Agriculture constitutes an emergency and threatens the U.S. livestock or poultry population. The regulations authorize payments based on the fair market value of the animals destroyed, as well as payments for their destruction and disposal.

Need and Use of the Information: Providing affected herd owners with appropriate compensation for the loss of their animals would entail the use of VS Form 1-23, All Species Appraisal & Indemnity Claim Form. APHIS will use the information provided on the form along with supporting documents to assist in verifying the quantity and value of animals or materials destroyed and the costs of their disposition, and the cost of cleaning and disinfecting. Collecting this information less frequently or failing to collect would make it difficult for APHIS to operate an FMD indemnity program.

Description of Respondents: Farms; Individuals or households; Federal Government; State, local or tribal government.

Number of Respondents: 1.

Frequency of Responses: Reporting: On occasion.

Total Burden Hours: 1.

Ruth Brown,
Departmental Information Collection Clearance Officer.

[FR Doc. 05-13104 Filed 7-1-05; 8:45 am]

BILLING CODE 3410-34-P